DEPARTMENT OF TRANSPORTATION

Federal Motor Carrier Safety Administration

[Docket No. FMCSA-2004-19456]

Office of Research and Technology Forum; Meeting

AGENCY: Federal Motor Carrier Safety Administration (FMCSA), DOT.

ACTION: Notice of Meeting/Forum.

SUMMARY: This notice invites you to participate in a forum titled, “FMCSA R&T: Today and Tomorrow”, sponsored by FMCSA's Office of Research and Technology (R&T) in conjunction with the 84th Annual Meeting of the Transportation Research Board (TRB). The purpose of the forum is to provide insight on some of the research and technology work that FMCSA sponsors in support of its missions of reducing the number and severity of commercial motor vehicle (CMV) crashes and fatalities and enhancing efficiency of CMV operations. Presenters will speak about current FMCSA R&T projects and the status of studies and technologies under consideration as part of the draft R&T 5-Year Strategic Plan. Speaker topics will cover the Crash Causation Study, Electronic On-Board Recorders, the HazMat Operational Test, Vehicle Infrastructure Integration, and Fatigue Management Technologies. The keynote address will feature a trucking association representative who will discuss both safety partnerships between industry and FMCSA and the role that research and technology plays in helping the trucking industry move towards safer, more efficient and secure operations. There will be an opportunity for attendees to talk with FMCSA subject-matter experts in an open question and answer session.

Where and When: Marriott Wardman Park Hotel, Salon III, 2660 Woodley Road, NW., Washington, DC 20008, on Sunday, January 9, 2005. Registration begins at 8 a.m. and the forum starts at 8:30 a.m. and ends at 1 p.m.

Registration: This forum is listed as a session in the TRB Annual Meeting Program, and all registrants are welcome to attend. TRB registration is not required to attend the forum, and it is open to the public at no cost. To register for the TRB Annual Meeting, visit http://www.trb.org. To attend the forum only, you can send an e-mail to R&TPartnerships@fmcsa.dot.gov.

FOR FURTHER INFORMATION CONTACT: Mr. Albert Alvarez, Office of Research and Technology (MC-RTR), Federal Motor Carrier Safety Administration, 400 Virginia Avenue, SW., Washington, DC 20024; telephone (202) 385-2387 or e-mail albert.alvarez@fmcsa.dot.gov. Office hours are from 8 a.m. to 4:30 p.m., e.s.t., Monday through Friday, except Federal holidays.

SUPPLEMENTARY INFORMATION: Forum attendees will receive an information packet on current programs of the Office of Research and Technology. While the forum will be open to the public, there is limited space. If you require accommodations (sign, reader, etc.) for a special need, please call Joanice Cole at (202) 334-2287, or e-mail jcole@nas.edu.

Issued on: November 29, 2004.
Annette M. Sandberg,
Administrator.

[FR Doc. 04-26851 Filed 12-6-04; 8:45 am]

BILLING CODE 4910-EX-P